DEPARTMENT OF AGRICULTURE

Food and Nutrition Service

Agency Information Collection Activities, Comments Request: Evaluation of Alternatives To Improve Elderly Access

AGENCY: Food and Nutrition Service (FNS), USDA.

ACTION: Notice and request for comments.

SUMMARY: In accordance with the Paperwork Reduction Act of 1995, this notice invites the general public and other public agencies to comment on the proposed collection of information for the Evaluation of Alternatives to Improve Elderly Access. This is a NEW information collection. This study will provide FNS with a better understanding of the barriers to serving elderly populations in the Supplemental Nutrition Assistance Program (SNAP) and the extent to which available policy options improve program access, whether certain program models or combinations are more effective than others, and what tradeoffs exist between program simplification/access goals and ensuring benefit adequacy.

DATES: Written comments must be received on or before July 31, 2017.

ADDRESSES: Comments may be sent to Kameron Burt, Social Science Policy Analyst, Office of Policy Support, Food and Nutrition Service, USDA, 3101 Park Center Drive, Room 1014, Alexandria, VA 22302. Comments may also be submitted via fax to the attention of Kameron Burt at 703-305-2576 or via email to kameron.burt@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project, or to obtain a copy of the data collection plans contact Kameron Burt, Social Science Policy Analyst, Office of Policy Support, Food and Nutrition Service, USDA, 3101 Park Center Drive, Room 1014, Alexandria, VA 22302; Fax: 703-305-2576; Email: kameron.burt@fns.usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluation of Alternatives to Improve Elderly Access.

Form Number: [If applicable, insert number].

OMB Number: Not yet assigned.

Expiration Date: Not yet determined.

Type of Request: New collection.

Abstract: The Food and Nutrition Service (FNS), under authorization of SEC. 17. [7 U.S.C. 2026] of the FOOD AND NUTRITION ACT OF 2008, as amended, intends to conduct the Evaluation of Alternatives to Improve Elderly Access. FNS is interested in exploring whether policy options designed to improve access to the Supplemental Nutrition Assistance Program (SNAP) for the elderly are effective. The objective of the study is to better understand how to maximize elder (60+) access to SNAP. The evaluation will have four key components:

(1) Exploratory Study: To ground the study plan and subsequent components of the study, the project began with an initial exploratory research phase to determine what is known about elder SNAP participation levels and caseload dynamics over time, factors influencing elder participation in SNAP, and the scope, range, and effects of State interventions for elders to date. The exploratory study drew primarily on existing data, including SNAP Quality Control (QC) data from Fiscal Years 2010 to 2015 and an index of State policy options, and a literature review, supplemented by discussions with FNS Regional and National office staff and experts from advocacy groups.

(2) Study of State Interventions: The Study of State Interventions will document the design, implementation, and operation of interventions intended to increase access to SNAP among the elderly population in the selected States. This component will provide a comprehensive understanding of the interventions, helping us to interpret the effects or lack thereof observed in the Study of Intervention Effects, draw lessons on how aspects of the interventions may be improved, and assess whether the interventions, if implemented in other locations or contexts, might yield similar outcomes. The primary source of data for this study component will be the extensive information collected during three-day site visits to each of the ten selected States.

(3) Study of elder participant perspectives: The purpose of the study is to gather direct input from elders about their awareness of SNAP, perceptions of the program, and experiences applying for and receiving SNAP benefits. Key data collection activities for this component will include: Phone screenings with elderly individuals to confirm eligibility and schedule interviews (560 individuals will be screened to result in 280 scheduled interviews); semi-structured interviews with 200 elderly eligible individuals (out of the 280 scheduled interviews) grouped into three categories (SNAP participants, non-participating applicants, and non-participants). FNS plans to contact or recruit another 115 individuals 60+ to participate in the focus group. Out of the 115 contacted, 80 will go on to participate in the actual focus group. These focus groups will be used to validate and explore key themes that emerge in the interviews. Overall, the expectation is that out of the total 675 elderly individuals contacted, 395 will not respond or choose not to take part in the study.

(4) Study of State Intervention Effects: The objective of the Study of State Intervention Effects is to assess the relative association between State interventions and key program outcomes, including elderly SNAP application trends and caseloads, and rates of churning. The focus of this analysis will be on the interventions that are specifically targeted to elderly households (in addition to the Community Partner Interview Demonstration (CPID)). The study team identified the following interventions as being of particular interest to the study because they either aim at increasing the enrollment of elderly participants or hold particular promise in this regard: Elderly Simplified Application Project (ESAP); Standard Medical Deduction (SMD); CPID; Combined Application Project (CAP); participating in a 36-Month Certification Demonstration; and having a 36-month certification or recertification interview waiver.

The key data source for this study will be a longitudinal file for each State that will be built by requesting caseload data from each study State for a period of time beginning 12 months before the implementation of an intervention and continuing through 12 months after implementation.

Affected Public: Respondent categories of affected public and the corresponding study participants will include: State and Local or Tribal Government [Agency SNAP Directors and selected State and county government staff], Non-profit Business organizations [Organizations serving elderly individuals and Community Based Organizations], and Individuals & Households [Elderly 60+ Recipients, Non-recipients, and Non-participating applicants].

Estimated Number of Respondents: 1,018 (675 Individuals/Households, 90 Businesses and 253 State employees).

Out of the 1,018 contacted, 660 are estimated to participate as respondents and 358 are estimated to not partake, who are considered our non-respondent group. The break out is as follows: The total estimated number of respondents includes: Out of 13 State SNAP Directors, 10 State SNAP Directors will participate; out of 70 State SNAP Administrative Staff, 70 State SNAP Administrative Staff will participate; out of 675 Individuals/Households, 360 Individuals Households (Elderly SNAP Recipients 60+ and Non-recipients, and Non-participating applicants) will participate; out of 50 Non-profit Organizations (Organizations serving elderly individuals) contacted, 40 will participate; out of 20 County Government SNAP Directors contacted, 20 will participate; out of 50 State and County Staff (Partner Agencies) contacted, 30 will participate; out of 100 County SNAP Staff contacted, 100 will participate; and out of 40 Non-profit Organizations (Community Based Organizations) contacted, 30 will.

Estimated Number of Responses per Respondent: 1.28.

The estimated number of responses per State Government SNAP Director is two: 10 State SNAP Directors will complete a Memorandum of Understanding with the research team; the same 10 State SNAP Directors will also take part in an interview lasting approximately 1 hour.

The estimated number of responses per State SNAP Administrative Staff is one: 20 respondents will prepare and provide caseload data files; 50 other respondents will take part in an interview.

The estimated number of responses per Individual Household (Elderly SNAP Recipients and Non-recipients) is one: 200 respondents will take part in an interview; 80 other respondents will take part in a focus group discussion (additionally, 395 other elderly individuals will be screened and/or have an interview or focus group scheduled but will not complete that activity).

The estimated number of responses per Non-profit Organization (Organizations serving elderly individuals) is one: 40 respondents will provide assistance with recruiting participants for interviews and focus groups.

The estimated number of responses per Non-profit Organizations (Community Based Organizations) is one: 30 respondents will participate in interviews as part of the study of State interventions.

The estimated number of responses per County Government SNAP Director is one: 20 respondents will take part in an interview.

The estimated number of responses per State and County Staff (Partner Agencies) is one: 30 respondents will take part in an interview.

The estimated number of responses per County SNAP Staff is one: 100 respondents will take part in an interview.

Estimated Total Annual Responses: 1,308.

Estimated Time per Response: 1.0515 hours.

The estimated time of response varies from one to 20 hours depending on respondent group and data collection activity, as shown in the table below, with an average estimated time of 1.53 hours for all participants (the average estimated time is .10 hours for non-respondents). Twenty State SNAP Administrative Staff will spend an estimated 20 hours to prepare and provide caseload data files, and 10 State Government SNAP Directors will spend an estimated 10 hours to complete a Memorandum of Understanding with the research team. All other data collection activities produce a burden of 1.5 hours or less.

Estimated Total Annual Burden on Respondents: 1,375.40 hours.

See Table 1 below for estimated total annual burden for each type of respondent.

Dated: May 18, 2017.
Jessica Shahin,
Acting Administrator, Food and Nutrition Service.

BILLING CODE 3410-30-P

[FR Doc. 2017-11028 Filed 5-26-17; 8:45 am]

BILLING CODE 3410-30-C